DEPARTMENT OF ENERGY

Federal Energy Regulatory Commission

[Docket No. PR09-10-000]

Michigan Consolidated Gas Company; Notice of Petition for Rate Approval

January 9, 2009.

Take notice that on December 23, 2008, Michigan Consolidated Gas Company (MichCon) filed a petition for rate approval pursuant to Section 284.123(b)(2) of the Commission's Regulations for authorization to charge market-based rates for the interstate storage and storage-related services MichCon provides under its Order No. 63 blanket certificate.

MichCon requests approval of its proposed rates as being fair and equitable on the basis of a showing that it lacks market power and that competitive forces will constrain the rates it charges.

MichCon states that it is a Hinshaw pipeline, within the meaning of Section 1(c) of the Natural Gas Act, and that it has been granted an Order No. 63 blanket certificate to provide interstate transportation and storage services. MichCon proposes to make its market-based rates effective as of December 23, 2008.

Any person desiring to participate in this rate proceeding must file a motion to intervene or to protest this filing in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Wednesday, January 21, 2009.

Kimberly D. Bose,
Secretary.

[FR Doc. E9-745 Filed 1-14-09; 8:45 am]

BILLING CODE 6717-01-P